ENVIRONMENTAL PROTECTION AGENCY

[FRL-7872-8]

Proposed Settlement Agreement, Clean Air Act Petition for Review

AGENCY: Environmental Protection Agency.

ACTION: Notice of Proposed Settlement Agreement; Request for Public Comment.

SUMMARY: In accordance with section 113(g) of the Clean Air Act, as amended (“Act”), 42 U.S.C. 7413(g), notice is hereby given of a settlement agreement to address a claim raised by Alcoa, Inc. (“Alcoa”) in a petition for review filed in the United States Court of Appeals for the District of Columbia Circuit. Alcoa, Inc. v. United States Environmental Protection Agency, No. 04-1189 (D.C. Cir.) This lawsuit, which was filed pursuant to section 307(b) of the Act, 42 U.S.C. 7607(b), challenged EPA's designation of the Evansville, Indiana area as nonattainment for the 8-hour ozone national ambient air quality standard (“NAAQS”) pursuant to section 107(d)(1) of the Act, 42 U.S.C. 7407(d)(1). The proposed settlement agreement provides that if the State of Indiana submits a request to redesignate the Evansville area to attainment for the 8-hour ozone NAAQS, EPA shall determine whether the submission is complete and, if so, propose and take final action on the request within specified periods of time.

DATES: Written comments on the proposed settlement agreements must be received by March 16, 2005.

ADDRESSES: Submit your comments, identified by docket ID number OGC-2005-0001, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in Wordperfect or ASCII file, avoiding the use of special characters and any form of encryption, and may be mailed to the mailing address above.

SUPPLEMENTARY INFORMATION: Alcoa, Inc. (“Alcoa”) challenged EPA's designation of the Evansville, Indiana area as nonattainment for the 8-hour ozone NAAQS. The nonattainment designation was based on air quality monitoring data from 2001, 2002 and 2003.

Alcoa and EPA understand that the State of Indiana plans to submit shortly a request to redesignate the Evansville area from nonattainment to attainment for the 8-hour ozone NAAQS, based on air quality monitoring data from 2002, 2003 and 2004. The Settlement Agreement provides that within 30 days following an official submission by the State of Indiana, requesting redesignation of the Evansville area, EPA shall determine whether the submission is complete. If EPA determines that the official submission is complete, EPA shall, within 60 days of the completeness determination, sign a notice of proposed action soliciting comment on the redesignation request and shall forward that notice to the Federal Register for publication. Within 60 days after the close of the public comment period, EPA shall sign a notice taking final action on the redesignation request.

If Indiana does not submit an official submission to EPA by July 1, 2005, Alcoa has the right to move the Court to reactivate the litigation and the right to move to reactivate expires September 1, 2005. If EPA does not comply with the deadlines under the Settlement Agreement, the sole remedy for Alcoa is the right to request the Court to reactivate the litigation.

For a period of thirty (30) days following the date of publication of this notice, the Agency will receive written comments relating to the proposed Settlement Agreement from persons who were not named as parties or interveners to the litigation in question. EPA or the Department of Justice may withdraw or withhold consent to the proposed Settlement Agreement if the comments disclose facts or considerations that indicate that such consent is inappropriate, improper, inadequate, or inconsistent with the requirements of the Act. Unless EPA or the Department of Justice determine, following the comment period, that consent is inappropriate, the Settlement Agreement will be final.

Dated: January 26, 2005.
Richard B. Ossias,
Acting Associate General Counsel.

[FR Doc. 05-2794 Filed 2-11-05; 8:45 am]

BILLING CODE 6560-50-M